DEPARTMENT OF TRANSPORTATION

Surface Transportation Board

[STB Finance Docket No. 33922]

Acadiana Railway Company, Inc.—Lease Exemption—Union Pacific Railroad Company

Acadiana Railway Company, Inc. (AKDN), a Class III rail carrier, has filed a verified notice of exemption under 49 CFR 1150.41 to lease and operate 5.0 miles of rail line from Union Pacific Railroad Company (UP) between milepost 0.0 at McCall, LA, and milepost 5.0 at Lula, LA. AKDN states that its projected revenues as a result of this transaction will not result in its becoming a Class II or Class I rail carrier, and certifies that its projected annual revenues will not exceed $5 million.

The transaction was scheduled to be consummated on or after September 13, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33922, must be filed with the Surface Transportation Board, Office of the Secretary, Case Control Unit, 1925 K Street, NW., Washington, DC 20423-0001. In addition, one copy of each pleading must be served on Karl Morell, BALL JANIK LLP, Suite 225, 1455 F Street, NW., Washington, DC 20005.

Board decisions and notices are available on our website at “WWW.STB.DOT.GOV.”

Decided: September 14, 2000.
By the Board, David M. Konschnik, Director, Office of Proceedings.
Vernon A. Williams,
Secretary.

[FR Doc. 00-24164 Filed 9-20-00; 8:45 am]

BILLING CODE 4915-00-P